DEPARTMENT OF ENERGY

[Docket No. EA-178-B]

Application To Export Electric Energy; Edison Mission Marketing and Trading, Inc.

AGENCY: Office of Electricity Delivery and Energy Reliability, DOE.

ACTION: Notice of application.

SUMMARY: Edison Mission Marketing and Trading, Inc. (EMMT) has applied to renew its authority to transmit electric energy from the United States to Mexico pursuant to section 202(e) of the Federal Power Act.

DATES: Comments, protests or requests to intervene must be submitted on or before July 5, 2005.

ADDRESSES: Comments, protests or requests to intervene should be addressed as follows: Office of Electricity Delivery & Energy Reliability, Mail Code: OE-20, U.S. Department of Energy, 1000 Independence Avenue, SW., Washington, DC 20585-0350 (FAX 202-287-5736).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On May 29, 1998, the Department of Energy (DOE) issued Order No. EA-178 authorizing EMMT's predecessor, Citizens Power Sales, LLC (CP Sales) to transmit electric energy from the United States to Mexico as a power marketer. On May 3, 2000, in Order No. EA-178-A, DOE renewed the CP Sales authorization to export electric energy to Canada for a five-year term that expired on May 3, 2005.

Subsequently, EMMT's parent, Edison Mission Energy, acquired CP Sales on July 3, 2000. In that transaction, CP Sales merged with EMMT, with EMMT as the surviving entity. EMMT has transacted under CP Sales' export authorization since that date.

On April 4, 2005, EMMT filed an application with DOE for renewal of the export authority contained in Order No. EA-178-A for an additional five-year term. EMMT proposes to export electric energy to Mexico and to arrange for the delivery of those exports over the international transmission facilities presently owned by San Diego Gas & Electric, El Paso Electric Company, Central Power & Light Company, and Comision Federal de Electricidad, the national electric utility of Mexico.

Procedural Matters: Any person desiring to become a party to these proceedings or to be heard by filing comments or protests to this application should file a petition to intervene, comment or protest at the address provided above in accordance with §§ 385.211 or 385.214 of the FERC's Rules of Practice and Procedures (18 CFR 385.211, 385.214). Fifteen copies of each petition and protest should be filed with the DOE on or before the dates listed above.

Comments on the EMMT application to export electric energy to Mexico should be clearly marked with Docket EA-178-B. Additional copies are to be filed directly with Joseph C. Bell, Jolanta Sterbenz, Geo. F. Hobday, Jr., Hogan & Hartson L.L.P., 555 Thirteenth Street, NW., Washington, DC 20004-1109, And Robert F. Viola, Counsel, Edison Mission Marketing & Trading, Inc., 160 Federal Street, Boston, Massachusetts 02110-1776, And Karen A. Bell, Assistant Counsel, Edison Mission Marketing & Trading, Inc., 160 Federal Street, Boston, Massachusetts 02110-1776.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the program's Home Page at http://www.fe.doe.gov. Upon reaching the Home page, select “Electricity Regulation,” and then “Pending Proceedings” from the options menus.

Issued in Washington, DC, on May 27, 2005.
Anthony J. Como,
Senior Advisor to the Director for Regulatory Programs, Office of Electricity Delivery & Energy Reliability.

[FR Doc. 05-10954 Filed 6-1-05; 8:45 am]

BILLING CODE 6450-01-P